DEPARTMENT OF TRANSPORTATION

Federal Railroad Administration

[Docket Number FRA-2021-0024]

Petition for Waiver of Compliance

Under part 211 of title 49 Code of Federal Regulations (CFR), this document provides the public notice that on February 1, 2021, Sandersville Railroad Company (SAN) petitioned the Federal Railroad Administration (FRA) for a waiver of compliance from certain provisions of the Federal railroad safety regulations contained at 49 CFR part 237, Bridge Safety Standards. FRA assigned the petition Docket Number FRA-2021-0024.

Specifically, SAN seeks relief from the requirements of 49 CFR 237.31, Adoption of bridge management programs. SAN's requested relief would include continuing the use of a scale inspector rather than a railroad bridge inspector for annual bridge inspections.

SAN owns and operates 35 miles of track and has one railroad bridge, which is a weigh-in-motion scale with a maximum authorized speed of 6 miles per hour. The scale provides accurate weights for customers using SAN's sidings and for Norfolk Southern Corporation (NS) to ensure it does not exceed weight restrictions for its intended routes or railcar weight limits. No railcars containing hazardous materials operate over the scale. SAN claims the scale was designed to meet American Railway Engineering and Maintenance-of-Way Association, Association of American Railroads, and Cooper E-80 design specifications.

SAN states that an NS railroad scale inspector inspects the scale annually and provides a report that details any structural deficiencies found that could jeopardize the safety of the scale. SAN believes that its current method of inspection, which has been in place for twenty years, provides a more knowledgeable and less costly inspection than would be required by 49 CFR part 237.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by April 8, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-03484 Filed 2-19-21; 8:45 am]

BILLING CODE 4910-06-P